DEPARTMENT OF AGRICULTURE

Forest Service

Deschutes Provincial Advisory Committee (DPAC)

AGENCY: Forest Service, USDA.

ACTION: Notice of meeting.

SUMMARY: The Deschutes Provincial Advisory Committee will meet on February 26, 2004, starting at 8 a.m. at the Redmond New Historic Hotel Conference Room on 521 S. 6th Street, Redmond, Oregon. Agenda items will include an open public forum from 9:15 a.m. till 9:45 a.m., Review of standing subcommittees, and the remaining time will be spent identifying present and future PAC representation needs. All Deschutes Province Advisory Committee meetings are open to the public.

FOR FURTHER INFORMATION CONTACT: Chris Mickle, Province Liaison, Deschutes NF, Crescent Rd., P.O. Box 208, Crescent, OR, 97754, phone (541) 433-3216.

Dated: February 2, 2004.
Leslie A.C. Weldon,
Deschutes National Forest Supervisor.

[FR Doc. 04-2674 Filed 2-6-04; 8:45 am]

BILLING CODE 3410-11-M